DEPARTMENT OF THE INTERIOR

National Park Service

[NPS-WASO-NAGPRA-NPS0040411; PPWOCRADN0-PCU00RP14.R50000]

Notice of Intended Repatriation: Peabody Essex Museum, Salem, MA

AGENCY: National Park Service, Interior.

ACTION: Notice.

SUMMARY: In accordance with the Native American Graves Protection and Repatriation Act (NAGPRA), the Peabody Essex Museum (PEM) intends to repatriate a certain cultural item that meets the definition of an object of cultural patrimony and that has a cultural affiliation with the Indian Tribes or Native Hawaiian organizations in this notice.

DATES: Repatriation of the cultural item in this notice may occur on or after July 17, 2025.

ADDRESSES: Send additional, written requests for repatriation of the cultural item in this notice to Kelly Ferguson, NAGPRA Project Manager, Peabody Essex Museum, 161 Essex Street, Salem, MA 01970, email kelly_ferguson@pem.org.

SUPPLEMENTARY INFORMATION: This notice is published as part of the National Park Service's administrative responsibilities under NAGPRA. The determinations in this notice are the sole responsibility of the Peabody Essex Museum, and additional information on the determinations in this notice, including the results of consultation, can be found in the summary or related records. The National Park Service is not responsible for the determinations in this notice.

Abstract of Information Available

A total of one cultural item has been requested for repatriation. The object of cultural patrimony is an adze blade preform from Mauna Kea Quarry on the Island of Hawaii. The adze blade was collected by Marcia Brown Bishop during the period of 1922 and 1937 when she was living in Hawaii. Bishop transferred the adze blade to the Peabody Museum of Salem (now Peabody Essex Museum) on deposit in 1938 and subsequently sold the blade to the museum in 1966. The museum has no record of any potentially hazardous substances used to treat this cultural item.

Determinations

The Peabody Essex Museum has determined that:

• The one object of cultural patrimony described in this notice has ongoing historical, traditional, or cultural importance central to the Native American group, including any constituent sub-group (such as a band, clan, lineage, ceremonial society, or other subdivision), according to the Native American traditional knowledge of an Indian Tribe or Native Hawaiian organization.

• There is a connection between the cultural item described in this notice and Protect Keopuka Ohana.

Requests for Repatriation

Additional, written requests for repatriation of the cultural item in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural item in this notice to a requestor may occur on or after July 17, 2025. If competing requests for repatriation are received, the Peabody Essex Museum must determine the most appropriate requestor prior to repatriation. Requests for joint repatriation of the cultural item are considered a single request and not competing requests. The Peabody Essex Museum is responsible for sending a copy of this notice to the Indian Tribes and Native Hawaiian organizations identified in this notice and to any other consulting parties.

Authority: Native American Graves Protection and Repatriation Act, 25 U.S.C. 3004 and the implementing regulations, 43 CFR 10.9.

Dated: June 11, 2025.
Melanie O'Brien,
Manager, National NAGPRA Program.

[FR Doc. 2025-11149 Filed 6-16-25; 8:45 am]

BILLING CODE 4312-52-P